DEPARTMENT OF DEFENSE

Office of the Secretary of Defense

[DOD-2006-OS-0217]

Privacy Act of 1974; System of Records

AGENCY: Defense Intelligence Agency, DoD.

ACTION: Notice to add a system of records.

SUMMARY: The Defense Intelligence Agency is proposing to add a system of records to its existing inventory of records systems subject to the Privacy Act of 1974, (5 U.S.C. 552a), as amended.

DATES: The proposed action will be effective on January 10, 2007 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on December 1, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 4, 2006.
C.R. Choate,
Alternate OSD Federal Register Liaison Officer, Department of Defense.

LDIA 06-0001

System name:

Employee Assistance Program (EAP) Case Records

System location:

Primary location: Defense Intelligence Agency (DIA), 200 MacDill Blvd., Washington, DC 20340-5100.

Secondary location: Missile Space Intelligence Command (MSIC), 4545 Fowler Road, Redstone Arsenal, AL 35898-5500.

Categories of individuals covered by the system:

Civilian employees, military assignees, retirees, and family members who are actively utilizing EAP services.

Categories of records in the system:

Records maintained include individual's name, gender, marital status, birth date, questionnaires, medical treatment, correspondence with personal physicians and practitioners, results of psychological assessments and interviews, psychiatric examination results and related reports, re-disclosure forms, and referral information.

Authority for maintenance of the system:

5 U.S.C. 301, Departmental Regulations; 10 U.S.C. 136, Under Secretary of Defense for Personnel and Readiness; E.O. 12564, Drug-free Federal Workplace; and E.O. 9397 (SSN).

Purpose(s):

To facilitate and record treatment on employees seeking counseling or referral services. To assist with planning and coordinating health care; to compile statistical data, conduct research, aid in preventive health programs, teach, evaluate care rendered, and determine professional certification and facility accreditation.

Routine uses of records maintained in the system, including categories of users and the purposes of such uses:

In addition to those disclosures generally permitted under 5 U.S.C. 552a(b) of the Privacy Act, these records or information contained therein may specifically be disclosed outside the Department of Defense as a routine use pursuant to 5 U.S.C 552a(b)(3) as follows:

The DoD “Blanket Routine Uses” set forth at the beginning of the Defense Intelligence Agency's compilation of systems of records notices apply to this system.

Note: Records of identity, diagnosis, prognosis or treatment of any client/patient, irrespective of whether or when he/she ceases to be a client/patient, maintained in connection with the performance of any alcohol or drug abuse prevention and treatment function conducted, requested, or directly of indirectly assisted by any department or agency of the United States, shall, except as provided herein, be confidential and be disclosed only for the purposes and under the circumstances expressly authorized in 42 U.S.C. 290dd-2. These statutes take precedence over the Privacy Act of 1974 in regard to accessibility of such records except to the individual to whom the report pertains. The “Blanket Routine Uses” that appear the beginning of DIA's compilation of systems of records notices do not apply to these records.

Policies and practices for storing, retrieving, accessing, retaining, and disposing of records in the system:

Storage:

Paper records are in file folders in locked cabinets.

Retrievability:

By last name.

Safeguards:

Secured, limited access offices and locked file cabinets. Records are accessible only to authorized personnel and must be returned by the end of day. Files are maintained in locked cabinets unless they are in use. Original signature release forms are required to disclose any information to a third party.

Retention and disposal:

Disposition pending. No records will be destroyed until the National Archives and Records Administration has approved the retention and disposal of the records.

System manager(s) and address:

Chief, Office of Employee Assistance HCH-EAP, Defense Intelligence Agency 200 MacDill Blvd., Washington DC 20340-0001.

Notification procedure:

Individuals seeking to determine whether information about themselves is contained in this system of records should address written inquiries to the DIA Privacy Office (DAN-1C), Defense Intelligence Agency, 200 MacDill Blvd., Washington DC 20340-5100.

Individual should provide their full name, current address, telephone number and Social Security Number.

Record access procedures:

Individuals seeking access to information about them contained in this system of records should address written inquiries to the DIA Privacy Official, Defense Intelligence Agency (DAN-1C), 200 MacDill Blvd., Washington, DC 20340-5100.

Individual should provide their full name, current address, telephone number and Social Security Number.

Contesting record procedures:

The Defense Intelligence Agency's rules for accessing records, for contesting contents and appealing initial agency determinations are published in DIA Regulation 12-12 “Defense Intelligence Agency Privacy Program”; 32 CFR part 319—Defense Intelligence Agency Privacy Program; or may be obtained from the system manager.

Record source categories:

Primary sources for records are EAP counselors, the patient and/or their family members, and employee supervisors.

Exemptions claimed for the system:

None.

[FR Doc. E6-20980 Filed 12-8-06; 8:45 am]

BILLING CODE 5001-06-P